DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: May 17, 2012, 10:00 a.m.

PLACE: Room 2C, 888 First Street NE., Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

981ST—Meeting

Regular Meeting

May 17, 2012

10:00 a.m.

Item No. | Docket No. | Company
Administrative
A-1 | AD02-1-000 | Agency Business Matters.
A-2 | AD02-7-000 | Customer Matters, Reliability, Security and Market Operations.
A-3 | AD05-9-000 | Summer Energy Market Assessment 2012.
A-4 | AD12-15-000 | Report on Arizona-Southern California Outages on September 8, 2011.
Electric
E-1 | RM10-23-001 | Transmission Planning and Cost Allocation by Transmission Owning and Operating Utilities.
E-2 | OMITTED
E-3 | EL12-35-000 | Midwest Independent Transmission System Operator, Inc.; ALLETE, Inc.; Ameren Illinois Company; Ameren Transmission Company of Illinois; American Transmission Company, LLC; Big Rivers Electric Corporation; Board of Water, Electric and Communications Trustees of the City of Muscatine, Iowa; Central Minnesota Municipal Power Agency; City of Columbia, Missouri, Water & Light Company; City Water, Light & Power (Springfield, Illinois); Dairyland Power Cooperative; Great River Energy; Hoosier Energy Rural Electric Cooperative, Inc.; Indiana Municipal Power Agency; Indianapolis Power & Light Company; International Transmission Company; ITC Midwest, LLC; Michigan Electric Transmission Company, LLC; Michigan Public Power Agency; Michigan South Central Power Agency; MidAmerican Energy Company; Missouri River Energy Services; Montana-Dakota Utilities Company; Montezuma Municipal Light & Power; Municipal Electric Utility of the City of Cedar Falls, Iowa; Muscatine Power and Water; Northern Indiana Public Service Company; Northern States Power Company, a Minnesota Corporation; Northern States Power Company, a Wisconsin Corporation; Northwestern Wisconsin Electric Company; Otter Tail Power Company; Southern Illinois Power Cooperative; Southern Indiana Gas & Electric Company; Southern Minnesota Municipal Power Agency; Tipton Municipal Utilities; Union Electric Company; Wabash Valley Power Association, Inc.; Wolverine Power Supply Cooperative, Inc.
E-4 | ER12-1204-000 | PJM Interconnection, L.L.C.
E-5 | PL12-1-000 | The Commission's Role Regarding the Environmental Protection Agency's Mercury and Air Toxics Standards.
E-6 | OMITTED
E-7 | QM12-2-000, QM12-2-001 | Public Service Company of New Mexico.
E-8 | PA10-13-000 | ITC Holdings Corporation.
E-9 | ER11-4336-004 | ISO New England Inc.
E-10 | EL11-9-001 | CAlifornians for Renewable Energy, Inc., (CARE) and Barbara Durkin v. National Grid, Cape Wind, and the Massachusetts Department of Public Utilities.
E-11 | OMITTED
E-12 | EL11-49-000 | National Grid Transmission Services Corporation and Bangor Hydro Electric Company.
Hydro
H-1 | P-14263-001 | Wyco Power and Water, Inc.
H-2 | OMITTED
H-3 | P-14358-001 | Borough of Weatherly, Pennsylvania.
H-4 | OMITTED
H-5 | P-2145-109 | Public Utility District No. 1 of Chelan County, Washington.
H-6 | P-2114-250 | Public Utility District No. 2 of Grant County, Washington.
Certificates
C-1 | CP11-547-000 | Natural Gas Pipeline Company of America LLC.
C-2 | CP12-31-000 | Southern LNG Company, L.L.C.

A free Web cast of this event is available through www.ferc.gov. Anyone with Internet access who desires to view this event can do so by navigating to www.ferc.gov's Calendar of Events and locating this event in the Calendar. The event will contain a link to its Web cast. The Capitol Connection provides technical support for the free Web casts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Dated: May 10, 1012.
Kimberly D. Bose,
Secretary.

[FR Doc. 2012-11790 Filed 5-11-12; 11:15 am]

BILLING CODE 6717-01-P